POSTAL REGULATORY COMMISSION

39 CFR Part 3040

[Docket No. RM2020-8]

RIN 3211-AA28

Update to Product Lists

AGENCY: Postal Regulatory Commission.

ACTION: Direct Final Rule.

SUMMARY: The Commission is announcing an update to the Market Dominant and Competitive product lists. This action reflects a publication policy adopted by Commission rules. The referenced policy assumes periodic updates. The updates are identified in the body of this document. The Market Dominant and Competitive product lists, which are re-published in their entirety, include these updates.

DATES: This rule is effective May 30, 2023, without further action, unless adverse comment is received by May 12, 2023. If adverse comment is received, the Commission will publish a timely withdrawal of the rule in the Federal Register.

ADDRESSES: For additional information, this document can be accessed electronically through the Commission's website at https://www.prc.gov.

FOR FURTHER INFORMATION CONTACT: David A. Trissell, General Counsel, at 202-789-6800.

SUPPLEMENTARY INFORMATION:

I. Introduction

II. Commission Process

III. Authorization

IV. Modifications

V. Ordering Paragraphs

I. Introduction

Pursuant to 39 U.S.C. 3642(d)(2) and 39 CFR 3040.103, the Commission provides a Notice of Update to Product Lists by listing all necessary modifications to both the Market Dominant and Competitive product lists between July 1, 2022 and December 31, 2022.

II. Commission Process

Pursuant to 39 CFR part 3040, the Commission maintains a Mail Classification Schedule (MCS) that includes rates, fees, and product descriptions for each Market Dominant and Competitive product, as well as product lists that categorize Postal Service products as either Market Dominant or Competitive. See generally 39 CFR part 3040. The product lists are published in the Code of Federal Regulations as 39 CFR Appendix A to Subpart A of Part 3040—Market Dominant Product List and Appendix B to subpart A of part 3040—Competitive Product List pursuant to 39 U.S.C. 3642(d)(2). See 39 U.S.C. 3642(d)(2). Both the MCS and its product lists are updated by the Commission on its website on a quarterly basis.¹ In addition, these quarterly updates to the product lists are also published in the Federal Register pursuant to 39 CFR 3040.103. See 39 CFR 3040.103.

¹ See https://www.prc.gov/mail-classification-schedule in the Current MCS section.

III. Authorization

Pursuant to 39 CFR 3040.103(d)(1), this Notice of Update to Product Lists identifies any modifications made to the Market Dominant or Competitive product list, including product additions, removals, and transfers.² Pursuant to 39 CFR 3040.103(d)(2), the modifications identified in this document result from the Commission's most recent MCS update posted on the Commission's website on January 23, 2023, and supersede all previous product lists.³

² 39 CFR 3040.103(d)(1). More detailed information (e.g., Docket Nos., Order Nos., effective dates, and extensions) for each Market Dominant and Competitive product can be found in the MCS, including the “Revision History” section, available at https://www.prc.gov/mail-classification-schedule.

³ Previous versions of the MCS and its product lists can be found on the Commission's website, available at https://www.prc.gov/mail-classification-schedule in the MCS Archives section.

IV. Modifications

The following list of products is being added to 39 CFR Appendix B to subpart A of part 3040—Competitive Product List:

1. First-Class Package Service Contract 120

2. First-Class Package Service Contract 121

3. International Priority Airmail, Commercial ePacket, Priority Mail Express International, Priority Mail International & First-Class Package International Service Contract 11

4. International Priority Airmail, Commercial ePacket, Priority Mail Express International, Priority Mail International & First-Class Package International Service Contract 12

5. International Priority Airmail, Commercial ePacket, Priority Mail Express International, Priority Mail International & First-Class Package International Service Contract 13

6. International Priority Airmail, Commercial ePacket, Priority Mail Express International, Priority Mail International & First-Class Package International Service Contract 14

7. International Priority Airmail, Commercial ePacket, Priority Mail Express International, Priority Mail International & First-Class Package International Service with Reseller Contract 6

8. International Priority Airmail, Commercial ePacket, Priority Mail Express International, Priority Mail International & First-Class Package International Service with Reseller Contract 7

9. International Priority Airmail, Commercial ePacket, Priority Mail Express International, Priority Mail International & First-Class Package International Service with Reseller Contract 8

10. Parcel Select Contract 50

11. Parcel Select Contract 51

12. Parcel Select Contract 52

13. Parcel Select Contract 53

14. Parcel Select Contract 54

15. Parcel Select Contract 55

16. Priority Mail Contract 751

17. Priority Mail Contract 752

18. Priority Mail Contract 753

19. Priority Mail Contract 754

20. Priority Mail Contract 755

21. Priority Mail Contract 756

22. Priority Mail Contract 757

23. Priority Mail Contract 758

24. Priority Mail Contract 759

25. Priority Mail Contract 760

26. Priority Mail Contract 761

27. Priority Mail Contract 762

28. Priority Mail Contract 763

29. Priority Mail Contract 764

30. Priority Mail Contract 765

31. Priority Mail Contract 766

32. Priority Mail Contract 767

33. Priority Mail Contract 768

34. Priority Mail Contract 769

35. Priority Mail Contract 770

36. Priority Mail Contract 771

37. Priority Mail Contract 772

38. Priority Mail Contract 773

39. Priority Mail & First-Class Package Service Contract 79

40. Priority Mail & First-Class Package Service Contract 218

41. Priority Mail & First-Class Package Service Contract 219

42. Priority Mail & First-Class Package Service Contract 220

43. Priority Mail & First-Class Package Service Contract 221

44. Priority Mail & First-Class Package Service Contract 222

45. Priority Mail & First-Class Package Service Contract 223

46. Priority Mail & First-Class Package Service Contract 224

47. Priority Mail & First-Class Package Service Contract 225

48. Priority Mail & First-Class Package Service Contract 226

49. Priority Mail & First-Class Package Service Contract 227

50. Priority Mail & First-Class Package Service Contract 228

51. Priority Mail & First-Class Package Service Contract 229

52. Priority Mail, First-Class Package Service & Parcel Select Contract 4

53. Priority Mail Express & Priority Mail Contract 134

54. Priority Mail Express Contract 95

55. Priority Mail Express Contract 96

56. Priority Mail Express Contract 97

57. Priority Mail Express Contract 98

58. Priority Mail Express Contract 99

59. Priority Mail Express International, Priority Mail International & First-Class Package International Service Contract 6

60. Priority Mail Express International, Priority Mail International & First-Class Package International Service Contract 7

61. Priority Mail Express International, Priority Mail International & First-Class Package International Service Contract 8

62. Priority Mail Express International, Priority Mail International & First-Class Package International Service Contract 9

63. Priority Mail Express International, Priority Mail International & First-Class Package International Service Contract 10

64. Priority Mail Express International, Priority Mail International & First-Class Package International Service Contract 11

65. Priority Mail Express International, Priority Mail International & First-Class Package International Service Contract 12

66. Priority Mail Express International, Priority Mail International, First-Class Package International Service & Commercial ePacket Contract 12

67. Priority Mail Express, Priority Mail & Parcel Select Contract 1

68. Priority Mail Express, Priority Mail & First-Class Package Service Contract 79

69. Priority Mail Express, Priority Mail, First-Class Package Service & Parcel Select Contract 11

70. Priority Mail Express, Priority Mail, First-Class Package Service & Parcel Select Contract 12

71. Priority Mail Express, Priority Mail, First-Class Package Service & Parcel Select Contract 13

72. Priority Mail Express, Priority Mail, First-Class Package Service & Parcel Select Contract 14

73. Priority Mail Express, Priority Mail, First-Class Package Service & Parcel Select Contract 15

74. Priority Mail Express, Priority Mail, First-Class Package Service & Parcel Select Contract 16

75. Priority Mail Express, Priority Mail, First-Class Package Service & Parcel Select Contract 17

76. Priority Mail Express, Priority Mail, First-Class Package Service & Parcel Select Contract 18

77. Priority Mail Express, Priority Mail, First-Class Package Service & Parcel Select Contract 19

78. Priority Mail Express, Priority Mail, First-Class Package Service & Parcel Select Contract 20

79. Priority Mail Express, Priority Mail, First-Class Package Service & Parcel Select Contract 21

80. Priority Mail Express, Priority Mail, First-Class Package Service & Parcel Select Contract 22

81. Priority Mail Express, Priority Mail, First-Class Package Service & Parcel Select Contract 23

82. Priority Mail Express, Priority Mail, First-Class Package Service & Parcel Select Contract 24

83. Priority Mail Express, Priority Mail, First-Class Package Service & Parcel Select Contract 25

84. Priority Mail Express, Priority Mail, First-Class Package Service & Parcel Select Contract 26

85. Priority Mail Express, Priority Mail, First-Class Package Service & Parcel Select Contract 27

86. Priority Mail Express, Priority Mail, First-Class Package Service & Parcel Select Contract 28

87. Priority Mail Express, Priority Mail, First-Class Package Service & Parcel Select Contract 29

88. Priority Mail Express, Priority Mail, First-Class Package Service & Parcel Select Contract 30

89. Priority Mail Express, Priority Mail, First-Class Package Service & Parcel Select Contract 31

90. Priority Mail Express, Priority Mail, First-Class Package Service & Parcel Select Contract 32

91. Priority Mail Express, Priority Mail, First-Class Package Service & Parcel Select Contract 33

92. Priority Mail Express, Priority Mail, First-Class Package Service & Parcel Select Contract 34

93. Priority Mail Express, Priority Mail, First-Class Package Service & Parcel Select Contract 35

94. Priority Mail Express, Priority Mail, First-Class Package Service & Parcel Select Contract 36

95. Priority Mail Express, Priority Mail, First-Class Package Service & Parcel Select Contract 37

96. Priority Mail Express, Priority Mail, First-Class Package Service & Parcel Select Contract 38

97. Priority Mail Express, Priority Mail, First-Class Package Service & Parcel Select Contract 39

98. Priority Mail Express, Priority Mail, First-Class Package Service & Parcel Select Contract 40

99. Priority Mail Express, Priority Mail, First-Class Package Service & Parcel Select Contract 41

100. Priority Mail Express, Priority Mail, First-Class Package Service & Parcel Select Contract 42

101. Priority Mail Express, Priority Mail, First-Class Package Service & Parcel Select Contract 43

102. Priority Mail Express, Priority Mail, First-Class Package Service & Parcel Select Contract 44

103. Priority Mail Express, Priority Mail, First-Class Package Service & Parcel Select Contract 45

104. Priority Mail Express, Priority Mail, First-Class Package Service & Parcel Select Contract 46

105. Priority Mail Express, Priority Mail, First-Class Package Service & Parcel Select Contract 47

106. Priority Mail Express, Priority Mail, First-Class Package Service & Parcel Select Contract 48

107. Priority Mail Express, Priority Mail, First-Class Package Service & Parcel Select Contract 49

108. Priority Mail Express, Priority Mail, First-Class Package Service & Parcel Select Contract 50

109. Priority Mail Express, Priority Mail, First-Class Package Service & Parcel Select Contract 51

110. Priority Mail Express, Priority Mail, First-Class Package Service & Parcel Select Contract 52

111. Priority Mail Express, Priority Mail, First-Class Package Service & Parcel Select Contract 53

112. Priority Mail Express, Priority Mail, First-Class Package Service & Parcel Select Contract 54

113. Priority Mail Express, Priority Mail, First-Class Package Service & Parcel Select Contract 55

114. Priority Mail Express, Priority Mail, First-Class Package Service & Parcel Select Contract 56

115. Priority Mail Express, Priority Mail, First-Class Package Service & Parcel Select Contract 57

116. Priority Mail Express, Priority Mail, First-Class Package Service & Parcel Select Contract 58

117. Priority Mail Express, Priority Mail, First-Class Package Service & Parcel Select Contract 59

118. Priority Mail Express, Priority Mail, First-Class Package Service & Parcel Select Contract 60

119. Priority Mail Express, Priority Mail, First-Class Package Service & Parcel Select Contract 61

120. Priority Mail Express, Priority Mail, First-Class Package Service & Parcel Select Contract 62

121. Priority Mail Express, Priority Mail, First-Class Package Service & Parcel Select Contract 63

122. Priority Mail Express, Priority Mail, First-Class Package Service & Parcel Select Contract 64

123. Priority Mail Express, Priority Mail, First-Class Package Service & Parcel Select Contract 66

124. Priority Mail Express, Priority Mail, First-Class Package Service & Parcel Select Contract 67

125. Priority Mail Express, Priority Mail, First-Class Package Service & Parcel Select Contract 68

126. Priority Mail Express, Priority Mail, First-Class Package Service & Parcel Select Contract 69

127. Priority Mail Express, Priority Mail, First-Class Package Service & Parcel Select Contract 70

128. Priority Mail Express, Priority Mail, First-Class Package Service & Parcel Select Contract 71

129. Priority Mail Express, Priority Mail, First-Class Package Service & Parcel Select Contract 72

130. Priority Mail Express, Priority Mail, First-Class Package Service & Parcel Select Contract 73

131. Priority Mail Express, Priority Mail, First-Class Package Service & Parcel Select Contract 74

132. Priority Mail Express, Priority Mail, First-Class Package Service & Parcel Select Contract 75

133. Priority Mail Express, Priority Mail, First-Class Package Service & Parcel Select Contract 76

134. Priority Mail Express, Priority Mail, First-Class Package Service & Parcel Select Contract 77

135. Priority Mail Express, Priority Mail, First-Class Package Service & Parcel Select Contract 78

136. Priority Mail Express, Priority Mail, First-Class Package Service & Parcel Select Contract 79

137. Priority Mail Express, Priority Mail, First-Class Package Service & Parcel Select Contract 80

138. Priority Mail Express, Priority Mail, First-Class Package Service & Parcel Select Contract 81

139. Priority Mail Express, Priority Mail, First-Class Package Service & Parcel Select Contract 82

140. Priority Mail Express, Priority Mail, First-Class Package Service & Parcel Select Contract 83

141. Priority Mail Express, Priority Mail, First-Class Package Service & Parcel Select Contract 84

142. Priority Mail Express, Priority Mail, First-Class Package Service & Parcel Select Contract 85

143. Priority Mail Express, Priority Mail, First-Class Package Service & Parcel Select Contract 86

144. Priority Mail Express, Priority Mail, First-Class Package Service & Parcel Select Contract 87

145. Priority Mail Express, Priority Mail, First-Class Package Service & Parcel Select Contract 88

146. Priority Mail Express, Priority Mail, First-Class Package Service & Parcel Select Contract 89

147. Priority Mail Express, Priority Mail, First-Class Package Service & Parcel Select Contract 90

148. Priority Mail Express, Priority Mail, First-Class Package Service & Parcel Select Contract 91

149. Priority Mail Express, Priority Mail, First-Class Package Service & Parcel Select Contract 92

150. Priority Mail Express, Priority Mail, First-Class Package Service & Parcel Select Contract 93

151. Priority Mail Express, Priority Mail, First-Class Package Service & Parcel Select Contract 94

152. Priority Mail Express, Priority Mail, First-Class Package Service & Parcel Select Contract 95

153. Priority Mail Express, Priority Mail, First-Class Package Service & Parcel Select Contract 96

154. Priority Mail Express, Priority Mail, First-Class Package Service & Parcel Select Contract 97

155. Priority Mail Express, Priority Mail, First-Class Package Service & Parcel Select Contract 98

156. Priority Mail Express, Priority Mail, First-Class Package Service & Parcel Select Contract 99

157. Priority Mail Express, Priority Mail, First-Class Package Service & Parcel Select Contract 100

158. Priority Mail Express, Priority Mail, First-Class Package Service & Parcel Select Contract 101

159. Priority Mail Express, Priority Mail, First-Class Package Service & Parcel Select Contract 102

160. Priority Mail Express, Priority Mail, First-Class Package Service & Parcel Select Contract 103

161. Priority Mail Express, Priority Mail, First-Class Package Service & Parcel Select Contract 104

The following list of products is being removed from 39 CFR Appendix B to Subpart A of Part 3040—Competitive Product List:

1. First-Class Package Service Contract 99

2. First-Class Package Service Contract 100

3. First-Class Package Service Contract 103

4. First-Class Package Service Contract 104

5. First-Class Package Service Contract 107

6. Parcel Select Contract 46

7. Parcel Select Contract 47

8. Parcel Select & Parcel Return Service Contract 13

9. Priority Mail Contract 292

10. Priority Mail Contract 504

11. Priority Mail Contract 511

12. Priority Mail Contract 535

13. Priority Mail Contract 542

14. Priority Mail Contract 550

15. Priority Mail Contract 555

16. Priority Mail Contract 556

17. Priority Mail Contract 557

18. Priority Mail Contract 566

19. Priority Mail Contract 567

20. Priority Mail Contract 577

21. Priority Mail Contract 585

22. Priority Mail Contract 591

23. Priority Mail Contract 641

24. Priority Mail Contract 702

25. Priority Mail Contract 710

26. Priority Mail Contract 716

27. Priority Mail Contract 718

28. Priority Mail Contract 723

29. Priority Mail Contract 726

30. Priority Mail Contract 729

31. Priority Mail Contract 731

32. Priority Mail Contract 732

33. Priority Mail Express Contract 77

34. Priority Mail Express Contract 91

35. Priority Mail Express Contract 93

36. Priority Mail Express & Priority Mail Contract 48

37. Priority Mail Express & Priority Mail Contract 90

38. Priority Mail Express & Priority Mail Contract 95

39. Priority Mail Express & Priority Mail Contract 96

40. Priority Mail Express & Priority Mail Contract 103

41. Priority Mail Express & Priority Mail Contract 121

42. Priority Mail Express & Priority Mail Contract 126

43. Priority Mail Express & Priority Mail Contract 127

44. Priority Mail Express & Priority Mail Contract 128

45. Priority Mail Express & Priority Mail Contract 129

46. Priority Mail Express & Priority Mail Contract 132

47. Priority Mail Express International, Priority Mail International, First-Class Package International Service & Commercial ePacket Contract 10

48. Priority Mail Express International, Priority Mail International, First-Class Package International Service & Commercial ePacket Contract 11

49. Priority Mail Express, Priority Mail & First-Class Package Service Contract 51

50. Priority Mail Express, Priority Mail & First-Class Package Service Contract 53

51. Priority Mail Express, Priority Mail & First-Class Package Service Contract 55

52. Priority Mail Express, Priority Mail & First-Class Package Service Contract 57

53. Priority Mail Express, Priority Mail & First-Class Package Service Contract 58

54. Priority Mail Express, Priority Mail & First-Class Package Service Contract 63

55. Priority Mail Express, Priority Mail & First-Class Package Service Contract 69

56. Priority Mail Express, Priority Mail & First-Class Package Service Contract 76

57. Priority Mail Express, Priority Mail, First-Class Package Service & Parcel Select Contract 1

58. Priority Mail Express, Priority Mail, First-Class Package Service & Parcel Select Contract 2

59. Priority Mail Express, Priority Mail, First-Class Package Service & Parcel Select Contract 3

60. Priority Mail Express, Priority Mail, First-Class Package Service & Parcel Select Contract 5

61. Priority Mail Express, Priority Mail, First-Class Package Service & Parcel Select Contract 7

62. Priority Mail Express, Priority Mail, First-Class Package Service & Parcel Select Contract 10

63. Priority Mail, First-Class Package Service & Parcel Select Contract 1

64. Priority Mail, First-Class Package Service & Parcel Select Contract 2

65. Priority Mail & First-Class Package Service Contract 9

66. Priority Mail & First-Class Package Service Contract 95

67. Priority Mail & First-Class Package Service Contract 97

68. Priority Mail & First-Class Package Service Contract 99

69. Priority Mail & First-Class Package Service Contract 100

70. Priority Mail & First-Class Package Service Contract 108

71. Priority Mail & First-Class Package Service Contract 109

72. Priority Mail & First-Class Package Service Contract 113

73. Priority Mail & First-Class Package Service Contract 116

74. Priority Mail & First-Class Package Service Contract 118

75. Priority Mail & First-Class Package Service Contract 124

76. Priority Mail & First-Class Package Service Contract 127

77. Priority Mail & First-Class Package Service Contract 130

78. Priority Mail & First-Class Package Service Contract 150

79. Priority Mail & First-Class Package Service Contract 178

80. Priority Mail & First-Class Package Service Contract 194

81. Priority Mail & First-Class Package Service Contract 207

82. Priority Mail & First-Class Package Service Contract 211

83. Priority Mail & First-Class Package Service Contract 212

The above-referenced changes to the Competitive product list are incorporated into 39 CFR Appendix B to Subpart A of Part 3040.

V. Ordering Paragraphs

It is ordered:

1. Part 3040 of title 39, Code of Federal Regulations, is amended as set forth below the signature of this Notice, effective 45 days after the date of publication of the Notice in the Federal Register without further action, unless adverse comments are received.

2. The Secretary shall arrange for publication of the Notice in the Federal Register.

3. Interested persons may submit adverse comments no later than 30 days from the date of the publication of this Notice in the Federal Register.

4. If adverse comments are received, the Secretary will publish a timely withdrawal of the Notice in the Federal Register.

By the Commission.
Mallory Richards,
Attorney-Advisor.

List of Subjects in 39 CFR Part 3040

Administrative practice and procedure, Postal Service.

For the reasons discussed in the preamble, the Postal Regulatory Commission amends chapter III of title 39 of the Code of Federal Regulations as follows:

PART 3040—PRODUCT LISTS

1. The authority citation for part 3040 continues to read as follows:

Authority: 39 U.S.C. 503; 3622; 3631; 3642; 3682.

2. Revise appendix A to subpart A of part 3040 to read as follows:

Appendix A to Subpart A of Part 3040—Market Dominant Product List

(An asterisk (*) indicates an organizational class or group, not a Postal Service product.)

First-Class Mail *

Single-Piece Letters/Postcards

Presorted Letters/Postcards

Flats

Outbound Single-Piece First-Class Mail International

Inbound Letter Post

USPS Marketing Mail (Commercial and Nonprofit) *

High Density and Saturation Letters

High Density and Saturation Flats/Parcels

Carrier Route

Letters

Flats

Parcels

Every Door Direct Mail—Retail

Periodicals *

In-County Periodicals

Outside County Periodicals

Package Services *

Alaska Bypass Service

Bound Printed Matter Flats

Bound Printed Matter Parcels

Media Mail/Library Mail

Special Services *

Ancillary Services

International Ancillary Services

Address Management Services

Caller Service

Credit Card Authentication

International Reply Coupon Service

International Business Reply Mail Service

Money Orders

Post Office Box Service

Stamp Fulfillment Services

Negotiated Service Agreements *

Domestic *

International *

Inbound Market Dominant Multi-Service Agreements with Foreign Postal Operators

Nonpostal Services *

Alliances with the Private Sector to Defray Cost of Key Postal Functions

Philatelic Sales

Market Tests *

USPS Connect Local Mail

3. Revise Appendix B to Subpart A of Part 3040 to read as follows:

Appendix B to Subpart A of Part 3040—Competitive Product List

(An asterisk (*) indicates an organizational class or group, not a Postal Service product.)

Domestic Products *

Priority Mail Express

Priority Mail

Parcel Select

Parcel Return Service

First-Class Package Service

International Products *

Outbound International Expedited Services

Inbound Parcel Post (at UPU rates)

Outbound Priority Mail International

International Priority Airmail (IPA)

International Surface Air Lift (ISAL)

International Direct Sacks-M-Bags

Outbound Single-Piece First-Class Package International Service

Inbound Letter Post Small Packets and Bulky Letters

Negotiated Service Agreements *

Domestic *

Priority Mail Express Contract 81

Priority Mail Express Contract 83

Priority Mail Express Contract 87

Priority Mail Express Contract 88

Priority Mail Express Contract 92

Priority Mail Express Contract 94

Priority Mail Express Contract 95

Priority Mail Express Contract 96

Priority Mail Express Contract 97

Priority Mail Express Contract 98

Priority Mail Express Contract 99

Parcel Return Service Contract 17

Parcel Return Service Contract 18

Priority Mail Contract 80

Priority Mail Contract 153

Priority Mail Contract 360

Priority Mail Contract 530

Priority Mail Contract 543

Priority Mail Contract 544

Priority Mail Contract 547

Priority Mail Contract 551

Priority Mail Contract 559

Priority Mail Contract 573

Priority Mail Contract 589

Priority Mail Contract 590

Priority Mail Contract 595

Priority Mail Contract 596

Priority Mail Contract 601

Priority Mail Contract 604

Priority Mail Contract 605

Priority Mail Contract 607

Priority Mail Contract 609

Priority Mail Contract 611

Priority Mail Contract 614

Priority Mail Contract 615

Priority Mail Contract 618

Priority Mail Contract 628

Priority Mail Contract 631

Priority Mail Contract 640

Priority Mail Contract 642

Priority Mail Contract 645

Priority Mail Contract 647

Priority Mail Contract 655

Priority Mail Contract 657

Priority Mail Contract 658

Priority Mail Contract 660

Priority Mail Contract 663

Priority Mail Contract 665

Priority Mail Contract 666

Priority Mail Contract 669

Priority Mail Contract 671

Priority Mail Contract 672

Priority Mail Contract 682

Priority Mail Contract 685

Priority Mail Contract 686

Priority Mail Contract 687

Priority Mail Contract 690

Priority Mail Contract 692

Priority Mail Contract 693

Priority Mail Contract 694

Priority Mail Contract 695

Priority Mail Contract 699

Priority Mail Contract 700

Priority Mail Contract 701

Priority Mail Contract 704

Priority Mail Contract 705

Priority Mail Contract 707

Priority Mail Contract 708

Priority Mail Contract 709

Priority Mail Contract 711

Priority Mail Contract 712

Priority Mail Contract 714

Priority Mail Contract 715

Priority Mail Contract 720

Priority Mail Contract 721

Priority Mail Contract 722

Priority Mail Contract 724

Priority Mail Contract 725

Priority Mail Contract 727

Priority Mail Contract 728

Priority Mail Contract 730

Priority Mail Contract 733

Priority Mail Contract 734

Priority Mail Contract 735

Priority Mail Contract 736

Priority Mail Contract 737

Priority Mail Contract 738

Priority Mail Contract 739

Priority Mail Contract 740

Priority Mail Contract 741

Priority Mail Contract 742

Priority Mail Contract 743

Priority Mail Contract 744

Priority Mail Contract 745

Priority Mail Contract 746

Priority Mail Contract 747

Priority Mail Contract 748

Priority Mail Contract 749

Priority Mail Contract 750

Priority Mail Contract 751

Priority Mail Contract 752

Priority Mail Contract 753

Priority Mail Contract 754

Priority Mail Contract 755

Priority Mail Contract 756

Priority Mail Contract 757

Priority Mail Contract 758

Priority Mail Contract 759

Priority Mail Contract 760

Priority Mail Contract 761

Priority Mail Contract 762

Priority Mail Contract 763

Priority Mail Contract 764

Priority Mail Contract 765

Priority Mail Contract 766

Priority Mail Contract 767

Priority Mail Contract 768

Priority Mail Contract 769

Priority Mail Contract 770

Priority Mail Contract 771

Priority Mail Contract 772

Priority Mail Contract 773

Priority Mail Express & Priority Mail Contract 99

Priority Mail Express & Priority Mail Contract 102

Priority Mail Express & Priority Mail Contract 114

Priority Mail Express & Priority Mail Contract 116

Priority Mail Express & Priority Mail Contract 118

Priority Mail Express & Priority Mail Contract 120

Priority Mail Express & Priority Mail Contract 122

Priority Mail Express & Priority Mail Contract 123

Priority Mail Express & Priority Mail Contract 130

Priority Mail Express & Priority Mail Contract 131

Priority Mail Express & Priority Mail Contract 133

Priority Mail Express & Priority Mail Contract 134

Parcel Select & Parcel Return Service Contract 7

Parcel Select & Parcel Return Service Contract 9

Parcel Select & Parcel Return Service Contract 10

Parcel Select & Parcel Return Service Contract 11

Parcel Select & Parcel Return Service Contract 14

Parcel Select Contract 34

Parcel Select Contract 35

Parcel Select Contract 37

Parcel Select Contract 38

Parcel Select Contract 39

Parcel Select Contract 40

Parcel Select Contract 41

Parcel Select Contract 42

Parcel Select Contract 43

Parcel Select Contract 44

Parcel Select Contract 45

Parcel Select Contract 48

Parcel Select Contract 49

Parcel Select Contract 50

Parcel Select Contract 51

Parcel Select Contract 52

Parcel Select Contract 53

Parcel Select Contract 54

Parcel Select Contract 55

Priority Mail—Non-Published Rates 1

Priority Mail—Non-Published Rates 2

First-Class Package Service Contract 87

First-Class Package Service Contract 106

First-Class Package Service Contract 108

First-Class Package Service Contract 109

First-Class Package Service Contract 110

First-Class Package Service Contract 112

First-Class Package Service Contract 114

First-Class Package Service Contract 115

First-Class Package Service Contract 116

First-Class Package Service Contract 117

First-Class Package Service Contract 118

First-Class Package Service Contract 119

First-Class Package Service Contract 120

First-Class Package Service Contract 121

Priority Mail Express, Priority Mail & First-Class Package Service Contract 62

Priority Mail Express, Priority Mail & First-Class Package Service Contract 66

Priority Mail Express, Priority Mail & First-Class Package Service Contract 67

Priority Mail Express, Priority Mail & First-Class Package Service Contract 71

Priority Mail Express, Priority Mail & First-Class Package Service Contract 73

Priority Mail Express, Priority Mail & First-Class Package Service Contract 74

Priority Mail Express, Priority Mail & First-Class Package Service Contract 75

Priority Mail Express, Priority Mail & First-Class Package Service Contract 77

Priority Mail Express, Priority Mail & First-Class Package Service Contract 78

Priority Mail Express, Priority Mail & First-Class Package Service Contract 79

Priority Mail & First-Class Package Service Contract 26

Priority Mail & First-Class Package Service Contract 79

Priority Mail & First-Class Package Service Contract 102

Priority Mail & First-Class Package Service Contract 121

Priority Mail & First-Class Package Service Contract 126

Priority Mail & First-Class Package Service Contract 128

Priority Mail & First-Class Package Service Contract 129

Priority Mail & First-Class Package Service Contract 132

Priority Mail & First-Class Package Service Contract 137

Priority Mail & First-Class Package Service Contract 139

Priority Mail & First-Class Package Service Contract 141

Priority Mail & First-Class Package Service Contract 143

Priority Mail & First-Class Package Service Contract 144

Priority Mail & First-Class Package Service Contract 146

Priority Mail & First-Class Package Service Contract 148

Priority Mail & First-Class Package Service Contract 153

Priority Mail & First-Class Package Service Contract 154

Priority Mail & First-Class Package Service Contract 155

Priority Mail & First-Class Package Service Contract 163

Priority Mail & First-Class Package Service Contract 166

Priority Mail & First-Class Package Service Contract 169

Priority Mail & First-Class Package Service Contract 172

Priority Mail & First-Class Package Service Contract 175

Priority Mail & First-Class Package Service Contract 177

Priority Mail & First-Class Package Service Contract 183

Priority Mail & First-Class Package Service Contract 184

Priority Mail & First-Class Package Service Contract 186

Priority Mail & First-Class Package Service Contract 188

Priority Mail & First-Class Package Service Contract 189

Priority Mail & First-Class Package Service Contract 190

Priority Mail & First-Class Package Service Contract 191

Priority Mail & First-Class Package Service Contract 192

Priority Mail & First-Class Package Service Contract 193

Priority Mail & First-Class Package Service Contract 195

Priority Mail & First-Class Package Service Contract 197

Priority Mail & First-Class Package Service Contract 198

Priority Mail & First-Class Package Service Contract 199

Priority Mail & First-Class Package Service Contract 200

Priority Mail & First-Class Package Service Contract 202

Priority Mail & First-Class Package Service Contract 203

Priority Mail & First-Class Package Service Contract 204

Priority Mail & First-Class Package Service Contract 205

Priority Mail & First-Class Package Service Contract 206

Priority Mail & First-Class Package Service Contract 208

Priority Mail & First-Class Package Service Contract 209

Priority Mail & First-Class Package Service Contract 210

Priority Mail & First-Class Package Service Contract 213

Priority Mail & First-Class Package Service Contract 214

Priority Mail & First-Class Package Service Contract 215

Priority Mail & First-Class Package Service Contract 216

Priority Mail & First-Class Package Service Contract 217

Priority Mail & First-Class Package Service Contract 218

Priority Mail & First-Class Package Service Contract 219

Priority Mail & First-Class Package Service Contract 220

Priority Mail & First-Class Package Service Contract 221

Priority Mail & First-Class Package Service Contract 222

Priority Mail & First-Class Package Service Contract 223

Priority Mail & First-Class Package Service Contract 224

Priority Mail & First-Class Package Service Contract 225

Priority Mail & First-Class Package Service Contract 226

Priority Mail & First-Class Package Service Contract 227

Priority Mail & First-Class Package Service Contract 228

Priority Mail & First-Class Package Service Contract 229

Priority Mail & Parcel Select Contract 4

Priority Mail & Parcel Select Contract 5

Priority Mail Express, Priority Mail, First-Class Package Service & Parcel Select Contract 6

Priority Mail Express, Priority Mail, First-Class Package Service & Parcel Select Contract 8

Priority Mail Express, Priority Mail, First-Class Package Service & Parcel Select Contract 9

Priority Mail Express, Priority Mail, First-Class Package Service & Parcel Select Contract 11

Priority Mail Express, Priority Mail, First-Class Package Service & Parcel Select Contract 12

Priority Mail Express, Priority Mail, First-Class Package Service & Parcel Select Contract 13

Priority Mail Express, Priority Mail, First-Class Package Service & Parcel Select Contract 14

Priority Mail Express, Priority Mail, First-Class Package Service & Parcel Select Contract 15

Priority Mail Express, Priority Mail, First-Class Package Service & Parcel Select Contract 16

Priority Mail Express, Priority Mail, First-Class Package Service & Parcel Select Contract 17

Priority Mail Express, Priority Mail, First-Class Package Service & Parcel Select Contract 18

Priority Mail Express, Priority Mail, First-Class Package Service & Parcel Select Contract 19

Priority Mail Express, Priority Mail, First-Class Package Service & Parcel Select Contract 20

Priority Mail Express, Priority Mail, First-Class Package Service & Parcel Select Contract 21

Priority Mail Express, Priority Mail, First-Class Package Service & Parcel Select Contract 22

Priority Mail Express, Priority Mail, First-Class Package Service & Parcel Select Contract 23

Priority Mail Express, Priority Mail, First-Class Package Service & Parcel Select Contract 24

Priority Mail Express, Priority Mail, First-Class Package Service & Parcel Select Contract 25

Priority Mail Express, Priority Mail, First-Class Package Service & Parcel Select Contract 26

Priority Mail Express, Priority Mail, First-Class Package Service & Parcel Select Contract 27

Priority Mail Express, Priority Mail, First-Class Package Service & Parcel Select Contract 28

Priority Mail Express, Priority Mail, First-Class Package Service & Parcel Select Contract 29

Priority Mail Express, Priority Mail, First-Class Package Service & Parcel Select Contract 30

Priority Mail Express, Priority Mail, First-Class Package Service & Parcel Select Contract 31

Priority Mail Express, Priority Mail, First-Class Package Service & Parcel Select Contract 32

Priority Mail Express, Priority Mail, First-Class Package Service & Parcel Select Contract 33

Priority Mail Express, Priority Mail, First-Class Package Service & Parcel Select Contract 34

Priority Mail Express, Priority Mail, First-Class Package Service & Parcel Select Contract 35

Priority Mail Express, Priority Mail, First-Class Package Service & Parcel Select Contract 36

Priority Mail Express, Priority Mail, First-Class Package Service & Parcel Select Contract 37

Priority Mail Express, Priority Mail, First-Class Package Service & Parcel Select Contract 38

Priority Mail Express, Priority Mail, First-Class Package Service & Parcel Select Contract 39

Priority Mail Express, Priority Mail, First-Class Package Service & Parcel Select Contract 40

Priority Mail Express, Priority Mail, First-Class Package Service & Parcel Select Contract 41

Priority Mail Express, Priority Mail, First-Class Package Service & Parcel Select Contract 42

Priority Mail Express, Priority Mail, First-Class Package Service & Parcel Select Contract 43

Priority Mail Express, Priority Mail, First-Class Package Service & Parcel Select Contract 44

Priority Mail Express, Priority Mail, First-Class Package Service & Parcel Select Contract 45

Priority Mail Express, Priority Mail, First-Class Package Service & Parcel Select Contract 46

Priority Mail Express, Priority Mail, First-Class Package Service & Parcel Select Contract 47

Priority Mail Express, Priority Mail, First-Class Package Service & Parcel Select Contract 48

Priority Mail Express, Priority Mail, First-Class Package Service & Parcel Select Contract 49

Priority Mail Express, Priority Mail, First-Class Package Service & Parcel Select Contract 50

Priority Mail Express, Priority Mail, First-Class Package Service & Parcel Select Contract 51

Priority Mail Express, Priority Mail, First-Class Package Service & Parcel Select Contract 52

Priority Mail Express, Priority Mail, First-Class Package Service & Parcel Select Contract 53

Priority Mail Express, Priority Mail, First-Class Package Service & Parcel Select Contract 54

Priority Mail Express, Priority Mail, First-Class Package Service & Parcel Select Contract 55

Priority Mail Express, Priority Mail, First-Class Package Service & Parcel Select Contract 56

Priority Mail Express, Priority Mail, First-Class Package Service & Parcel Select Contract 57

Priority Mail Express, Priority Mail, First-Class Package Service & Parcel Select Contract 58

Priority Mail Express, Priority Mail, First-Class Package Service & Parcel Select Contract 59

Priority Mail Express, Priority Mail, First-Class Package Service & Parcel Select Contract 60

Priority Mail Express, Priority Mail, First-Class Package Service & Parcel Select Contract 61

Priority Mail Express, Priority Mail, First-Class Package Service & Parcel Select Contract 62

Priority Mail Express, Priority Mail, First-Class Package Service & Parcel Select Contract 63

Priority Mail Express, Priority Mail, First-Class Package Service & Parcel Select Contract 64

Priority Mail Express, Priority Mail, First-Class Package Service & Parcel Select Contract 66

Priority Mail Express, Priority Mail, First-Class Package Service & Parcel Select Contract 67

Priority Mail Express, Priority Mail, First-Class Package Service & Parcel Select Contract 68

Priority Mail Express, Priority Mail, First-Class Package Service & Parcel Select Contract 69

Priority Mail Express, Priority Mail, First-Class Package Service & Parcel Select Contract 70

Priority Mail Express, Priority Mail, First-Class Package Service & Parcel Select Contract 71

Priority Mail Express, Priority Mail, First-Class Package Service & Parcel Select Contract 72

Priority Mail Express, Priority Mail, First-Class Package Service & Parcel Select Contract 73

Priority Mail Express, Priority Mail, First-Class Package Service & Parcel Select Contract 74

Priority Mail Express, Priority Mail, First-Class Package Service & Parcel Select Contract 75

Priority Mail Express, Priority Mail, First-Class Package Service & Parcel Select Contract 76

Priority Mail Express, Priority Mail, First-Class Package Service & Parcel Select Contract 77

Priority Mail Express, Priority Mail, First-Class Package Service & Parcel Select Contract 78

Priority Mail Express, Priority Mail, First-Class Package Service & Parcel Select Contract 79

Priority Mail Express, Priority Mail, First-Class Package Service & Parcel Select Contract 80

Priority Mail Express, Priority Mail, First-Class Package Service & Parcel Select Contract 81

Priority Mail Express, Priority Mail, First-Class Package Service & Parcel Select Contract 82

Priority Mail Express, Priority Mail, First-Class Package Service & Parcel Select Contract 83

Priority Mail Express, Priority Mail, First-Class Package Service & Parcel Select Contract 84

Priority Mail Express, Priority Mail, First-Class Package Service & Parcel Select Contract 85

Priority Mail Express, Priority Mail, First-Class Package Service & Parcel Select Contract 86

Priority Mail Express, Priority Mail, First-Class Package Service & Parcel Select Contract 87

Priority Mail Express, Priority Mail, First-Class Package Service & Parcel Select Contract 88

Priority Mail Express, Priority Mail, First-Class Package Service & Parcel Select Contract 89

Priority Mail Express, Priority Mail, First-Class Package Service & Parcel Select Contract 90

Priority Mail Express, Priority Mail, First-Class Package Service & Parcel Select Contract 91

Priority Mail Express, Priority Mail, First-Class Package Service & Parcel Select Contract 92

Priority Mail Express, Priority Mail, First-Class Package Service & Parcel Select Contract 93

Priority Mail Express, Priority Mail, First-Class Package Service & Parcel Select Contract 94

Priority Mail Express, Priority Mail, First-Class Package Service & Parcel Select Contract 95

Priority Mail Express, Priority Mail, First-Class Package Service & Parcel Select Contract 96

Priority Mail Express, Priority Mail, First-Class Package Service & Parcel Select Contract 97

Priority Mail Express, Priority Mail, First-Class Package Service & Parcel Select Contract 98

Priority Mail Express, Priority Mail, First-Class Package Service & Parcel Select Contract 99

Priority Mail Express, Priority Mail, First-Class Package Service & Parcel Select Contract 100

Priority Mail Express, Priority Mail, First-Class Package Service & Parcel Select Contract 101

Priority Mail Express, Priority Mail, First-Class Package Service & Parcel Select Contract 102

Priority Mail Express, Priority Mail, First-Class Package Service & Parcel Select Contract 103

Priority Mail Express, Priority Mail, First-Class Package Service & Parcel Select Contract 104

Priority Mail, First-Class Package Service & Parcel Select Contract 3

Priority Mail, First-Class Package Service & Parcel Select Contract 4

Priority Mail Express, Priority Mail & Parcel Select Contract 1

Outbound International *

Global Expedited Package Services (GEPS) Contracts

GEPS 3

GEPS 5

GEPS 6

GEPS 7

GEPS 8

GEPS 9

GEPS 10

Global Bulk Economy (GBE) Contracts

Global Plus Contracts

Global Plus 1C

Global Plus 1D

Global Plus 1E

Global Plus 2C

Global Plus 3

Global Plus 4

Global Plus 5

Global Plus 6

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Global Expedited Package Services (GEPS)—Non-Published Rates 8

Global Expedited Package Services (GEPS)—Non-Published Rates 9

Global Expedited Package Services (GEPS)—Non-Published Rates 10

Global Expedited Package Services (GEPS)—Non-Published Rates 11

Global Expedited Package Services (GEPS)—Non-Published Rates 12

Global Expedited Package Services (GEPS)—Non-Published Rates 13

Global Expedited Package Services (GEPS)—Non-Published Rates 14

Global Expedited Package Services (GEPS)—Non-Published Rates 15

Outbound Competitive International Merchandise Return Service Agreement with Royal Mail Group, Ltd.

Competitive International Merchandise Return Service Agreements with Foreign Postal Operators

Competitive International Merchandise Return Service Agreements with Foreign Postal Operators 1

Competitive International Merchandise Return Service Agreements with Foreign Postal Operators 2

Alternative Delivery Provider (ADP) Contracts

ADP 1

Alternative Delivery Provider Reseller (ADPR) Contracts

ADPR 1

Priority Mail Express International, Priority Mail International & First-Class Package International Service Contracts

Priority Mail Express International, Priority Mail International & First-Class Package International Service Contract 4

Priority Mail Express International, Priority Mail International & First-Class Package International Service Contract 5

Priority Mail Express International, Priority Mail International & First-Class Package International Service Contract 6

Priority Mail Express International, Priority Mail International & First-Class Package International Service Contract 7

Priority Mail Express International, Priority Mail International & First-Class Package International Service Contract 8

Priority Mail Express International, Priority Mail International & First-Class Package International Service Contract 9

Priority Mail Express International, Priority Mail International & First-Class Package International Service Contract 10

Priority Mail Express International, Priority Mail International & First-Class Package International Service Contract 11

Priority Mail Express International, Priority Mail International & First-Class Package International Service Contract 12

Priority Mail Express International, Priority Mail International, First-Class Package International Service & Commercial ePacket Contracts

Priority Mail Express International, Priority Mail International, First-Class Package International Service & Commercial ePacket Contract 2

Priority Mail Express International, Priority Mail International, First-Class Package International Service & Commercial ePacket Contract 8

Priority Mail Express International, Priority Mail International, First-Class Package International Service & Commercial ePacket Contract 12

Priority Mail Express International, Priority Mail International & Commercial ePacket Contracts

International Priority Airmail, Commercial ePacket, Priority Mail Express International, Priority Mail International & First-Class Package International Service Contracts

International Priority Airmail, Commercial ePacket, Priority Mail Express International, Priority Mail International & First-Class Package International Service Contract 1

International Priority Airmail, Commercial ePacket, Priority Mail Express International, Priority Mail International & First-Class Package International Service Contract 2

International Priority Airmail, Commercial ePacket, Priority Mail Express International, Priority Mail International & First-Class Package International Service Contract 4

International Priority Airmail, Commercial ePacket, Priority Mail Express International, Priority Mail International & First-Class Package International Service Contract 5

International Priority Airmail, Commercial ePacket, Priority Mail Express International, Priority Mail International & First-Class Package International Service Contract 6

International Priority Airmail, Commercial ePacket, Priority Mail Express International, Priority Mail International & First-Class Package International Service Contract 9

International Priority Airmail, Commercial ePacket, Priority Mail Express International, Priority Mail International & First-Class Package International Service Contract 11

International Priority Airmail, Commercial ePacket, Priority Mail Express International, Priority Mail International & First-Class Package International Service Contract 12

International Priority Airmail, Commercial ePacket, Priority Mail Express International, Priority Mail International & First-Class Package International Service Contract 13

International Priority Airmail, Commercial ePacket, Priority Mail Express International, Priority Mail International & First-Class Package International Service Contract 14

International Priority Airmail, Commercial ePacket, Priority Mail Express International, Priority Mail International & First-Class Package International Service with Reseller Contracts

International Priority Airmail, Commercial ePacket, Priority Mail Express International, Priority Mail International & First-Class Package International Service with Reseller Contract 1

International Priority Airmail, Commercial ePacket, Priority Mail Express International, Priority Mail International & First-Class Package International Service with Reseller Contract 2

International Priority Airmail, Commercial ePacket, Priority Mail Express International, Priority Mail International & First-Class Package International Service with Reseller Contract 3

International Priority Airmail, Commercial ePacket, Priority Mail Express International, Priority Mail International & First-Class Package International Service with Reseller Contract 4

International Priority Airmail, Commercial ePacket, Priority Mail Express International, Priority Mail International & First-Class Package International Service with Reseller Contract 5

International Priority Airmail, Commercial ePacket, Priority Mail Express International, Priority Mail International & First-Class Package International Service with Reseller Contract 6

International Priority Airmail, Commercial ePacket, Priority Mail Express International, Priority Mail International & First-Class Package International Service with Reseller Contract 7

International Priority Airmail, Commercial ePacket, Priority Mail Express International, Priority Mail International & First-Class Package International Service with Reseller Contract 8

International Priority Airmail Contracts

International Priority Airmail, International Surface Air Lift, Commercial ePacket, Priority Mail Express International, Priority Mail International & First-Class Package International Service Contracts

International Priority Airmail, International Surface Air Lift, Commercial ePacket, Priority Mail Express International, Priority Mail International & First-Class Package International Service Contract 1

International Priority Airmail, International Surface Air Lift, Commercial ePacket, Priority Mail Express International, Priority Mail International & First-Class Package International Service Contract 2

International Priority Airmail, International Surface Air Lift, Commercial ePacket, Priority Mail Express International, Priority Mail International & First-Class Package International Service with Reseller Contracts

International Priority Airmail, International Surface Air Lift, Commercial ePacket, Priority Mail Express International, Priority Mail International & First-Class Package International Service with Reseller Contract 1

International Priority Airmail, International Surface Air Lift, Commercial ePacket, Priority Mail Express International, Priority Mail International & First-Class Package International Service with Reseller Contract 2

Inbound International *

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Inbound Competitive Multi-Service Agreements with Foreign Postal Operators

Inbound Competitive Multi-Service Agreements with Foreign Postal Operators 1

Special Services *

Address Enhancement Services

Greeting Cards, Gift Cards, and Stationery

International Ancillary Services

International Money Transfer Service—Outbound

International Money Transfer Service—Inbound

Premium Forwarding Service

Shipping and Mailing Supplies

Post Office Box Service

Competitive Ancillary Services

Nonpostal Services *

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

Market Tests *

[FR Doc. 2023-07641 Filed 4-11-23; 8:45 am]

BILLING CODE 7710-FW-P